DEPARTMENT OF LABOR

Employment and Training Administration

[TA-W-60,627]

Advanced Technology Corp., Geneva, OH; Notice of Termination of Investigation

Pursuant to Section 221 of the Trade Act of 1974, as amended, an investigation was initiated on December 18, 2006 in response to a worker petition filed by the United Steelworkers, Local 905L on behalf of workers of Advanced Technology Corp., Geneva, Ohio.

The petitioner has requested that the petition be withdrawn. Consequently, the investigation has been terminated.

Signed at Washington, DC this 17th day of January, 2007.
Linda G. Poole,
Certifying Officer, Division of Trade Adjustment Assistance.

[FR Doc. E7-1075 Filed 1-24-07; 8:45 am]

BILLING CODE 4510-30-P